DEPARTMENT OF TRANSPORTATION

Surface Transportation Board

[STB Docket No. AB-344 (Sub-No. 1X)]

Chicago Southshore & South Bend Railroad—Abandonment Exemption—in LaPorte County, IN

On July 31, 2001, Chicago Southshore & South Bend Railroad (CSS) filed with the Surface Transportation Board (Board) a petition under 49 U.S.C. 10502 for exemption from the provisions of 49 U.S.C. 10903 to abandon a line of railroad ¹ extending from a connection at the east end of CSS's Lincoln Yard, near Second Street, to the end of the line at the facility of the Pioneer Lumber Company, a distance of less than one-half mile (approximately 2,400 feet), in LaPorte County, IN. The line traverses U.S. Postal Service ZIP Code 46360 and includes no stations.

¹ In its petition, CSS describes the line as an industrial lead track. CSS states that it is aware that the abandonment of industrial track is excepted from regulation by the Board pursuant to 49 U.S.C. 10906. It further states, however, that because the industrial track may previously have been a part of another carrier's main line, it is seeking this exemption out of an abundance of caution.

Based on information in its possession, CSS states that the line does not contain federally granted rights-of-way. Any documentation in CSS's possession will be made available promptly to those requesting it.

The interest of railroad employees will be protected by Oregon Short Line R. Co.—Abandonment—Goshen, 360 I.C.C. 91 (1979).

By issuance of this notice, the Board is instituting an exemption proceeding pursuant to 49 U.S.C. 10502(b). A final decision will be issued by November 16, 2001.

Any offer of financial assistance (OFA) under 49 CFR 1152.27(b)(2) will be due no later than 10 days after service of a decision granting the petition for exemption. Each OFA must be accompanied by the filing fee, which currently is set at $1,000. See 49 CFR 1002.2(f)(25).

All interested persons should be aware that, following abandonment of rail service and salvage of the line, the line may be suitable for other public use, including interim trail use. Any request for a public use condition under 49 CFR 1152.28 or for trail use/rail banking under 49 CFR 1152.29 will be due no later than September 10, 2001. Each trail use request must be accompanied by a $150 filing fee. See 49 CFR 1002.2(f)(27).

All filings in response to this notice must refer to STB Docket No. AB-344 (Sub-No. 1X) and must be sent to: (1) Surface Transportation Board, Office of the Secretary, Case Control Unit, 1925 K Street, NW, Washington, DC 20423-0001; and (2) Troy W. Garris, 1300 Nineteenth Street, NW, Fifth Floor, Washington, DC 20036-1609. Replies to the CSS petition are due on or before September 10, 2001.

Persons seeking further information concerning abandonment procedures may contact the Board's Office of Public Services at (202) 565-1592 or refer to the full abandonment or discontinuance regulations at 49 CFR part 1152. Questions concerning environmental issues may be directed to the Board's Section of Environmental Analysis (SEA) at (202) 565-1545. (TDD for the hearing impaired is available at 1-800-877-8339.)

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our website at “www.stb.dot.gov.”

Decided: August 14, 2001.
By the Board, David M. Konschnik, Director, Office of Proceedings.
Vernon A. Williams,
Secretary.

[FR Doc. 01-20917 Filed 8-17-01; 8:45 am]

BILLING CODE 4915-01-P